DEPARTMENT OF LABOR

Employment and Training Administration

[TA-W-51,176]

Delco Remy America, Inc. d/b/a Remy Logistic, Anderson, IN; Notice of Termination of Investigation

Pursuant to section 221 of the Trade Act of 1974, an investigation was initiated on March 17, 2003 in response to a worker petition filed on behalf of workers at Remy Logistic, a division of Delco Remy America, Inc., Anderson, Indiana.

The petitioning group of workers is covered by an active certification issued on March 24, 2003 and which remains in effect (TA-W-50,728). Consequently, further investigation in this case would serve no purpose, and the investigation has been terminated.

Signed at Washington, DC this 23rd day of May, 2003.
Elliott S. Kushner,
Certifying Officer, Division of Trade Adjustment Assistance.

[FR Doc. 03-15461 Filed 6-18-03; 8:45 am]

BILLING CODE 4510-30-P